DEPARTMENT OF COMMERCE

International Trade Administration

[A-475-059]

Pressure Sensitive Plastic Tape from Italy: Notice of Continuation of Antidumping Duty Finding

AGENCY: Import Administration, International Trade Administration, Department of Commerce.

SUMMARY: As a result of the determinations by the Department of Commerce (the Department) and the International Trade Commission (ITC) that revocation of the antidumping duty finding on pressure sensitive plastic tape (PSP Tape) from Italy would be likely to lead to continuation or recurrence of dumping and of material injury to an industry in the United States within a reasonably foreseeable time, the Department is publishing notice of the continuation of this antidumping duty finding.

EFFECTIVE DATE: April 5, 2010.

FOR FURTHER INFORMATION CONTACT: Terre Keaton Stefanova or Brandon Farlander, AD/CVD Operations, Import Administration, International Trade Administration, U.S. Department of Commerce, 14th Street & Constitution Avenue, NW, Washington, DC 20230; telephone: (202) 482-1280 or (202) 482-0182, respectively.

SUPPLEMENTARY INFORMATION:

Background

On May 1, 2009, the Department initiated and the ITC instituted a sunset review of the antidumping duty finding on PSP Tape from Italy, pursuant to section 751(c) of the Tariff Act of 1930, as amended (the Act). See Initiation of Five-Year Sunset Review, 74 FR 20286 (May 1, 2009).

The Department conducted an expedited sunset review of this finding. As a result of its review, the Department found that revocation of the antidumping duty finding would be likely to lead to continuation or recurrence of dumping and notified the ITC of the magnitude of the margins likely to prevail were the finding to be revoked. See Pressure Sensitive Plastic Tape from Italy: Final Results of Expedited Sunset Review, 74 FR 40811 (August 13, 2009) (Final Results).¹

¹ On October 26, 2009, the Department placed on the record a memorandum regarding corrections to the scope language contained in the Final Results. (See October 26, 2009, Memorandum to The File regarding “Corrections to Scope Language”).

On March 26, 2010, the ITC published its determination pursuant to section 751(c) of the Act that revocation of the antidumping duty finding on PSP Tape from Italy would be likely to lead to continuation or recurrence of material injury to an industry in the United States within a reasonably foreseeable time. See Pressure Sensitive Plastic Tape from Italy; Determination, 75 FR 14628 (March 26, 2010).

Scope of the Finding

The products covered in this review are shipments of PSP Tape measuring over one and three-eighths inches in width and not exceeding four mils in thickness. The above described PSP Tape is classified under Harmonized Tariff Schedule of the United States (HTSUS) subheadings 3919.10.20 and 3919.90.50. The HTS subheadings are provided for convenience and for customs purposes. The written description remains dispositive.

Continuation of the Finding

As a result of the determinations by the Department and the ITC that revocation of the antidumping duty finding would be likely to lead to continuation or recurrence of dumping and material injury to an industry in the United States, pursuant to section 751(d)(2) of the Act, the Department hereby orders the continuation of the antidumping duty finding on PSP Tape from Italy.

U.S. Customs and Border Protection will continue to collect antidumping duty cash deposits at the rates in effect at the time of entry for all imports of subject merchandise.

The effective date of continuation of this finding will be the date of publication in the Federal Register of this Notice of Continuation. Pursuant to section 751(c)(2) of the Act, the Department intends to initiate the next five-year review of this finding not later than March 2015.

This five-year (sunset) review and this notice are in accordance with sections 751(c) and 777(i)(1) of the Act and 19 CFR 351.218(f)(4).

Dated: March 29, 2010.
Ronald K. Lorentzen,
Deputy Assistant Secretary for Import Administration.

[FR Doc. 2010-7659 Filed 4-2-10; 8:45 am]

BILLING CODE 3510-DS-S